DEPARTMENT OF HEALTH AND HUMAN SERVICES

Administration for Children and Families

Administration for Native Americans

AGENCY: Administration for Native Americans.

ACTION: Award announcement.

SUMMARY: The Administration for Native Americans (ANA) herein announces an urgent grant award to the Red Lake Band of Chippewa Indians, Red Lake, Minnesota, in the amount of $311,400 for a project period of 24 months. This urgent grant award will assist the Tribe in mitigating the effects of the tragic events of the school shooting in March 2005 that resulted in the death of students, faculty and staff. The shooting marked the highest death toll in U.S. school shootings since the Columbine High School massacre in April 1999.

Due to the devastation created by the high school shooting, ANA is providing urgent financial assistance for minor renovations to the local community centers to support positive community development; funding to hire eleven volunteers to assist youth and members of the community in coping with this event; and building support systems, which will aid in preventing future tragedies.

FOR FURTHER INFORMATION CONTACT: Sheila Cooper, Director of Program Operations, toll-free at (877) 922-9262.

SUPPLEMENTARY INFORMATION: This award will be made pursuant to Section 803 of the Native American Programs Act of 1974.

Dated: August 2, 2005.
Kimberly Romine,
Deputy Commissioner, Administration for Native Americans.

[FR Doc. 05-15680 Filed 8-8-05; 8:45 am]

BILLING CODE 4184-01-P